DEPARTMENT OF COMMERCE

International Trade Administration

[A-427-818]

Low Enriched Uranium From France: Notice of Extension of Time Limit for the Final Results of Antidumping Duty Administrative Review

AGENCY: Import Administration, International Trade Administration, Department of Commerce.

ACTION: Notice of extension of time limit for the final results of antidumping duty administrative review.

EFFECTIVE DATE: March 31, 2004.

FOR FURTHER INFORMATION CONTACT: Vicki Schepker or Carol Henninger at (202) 482-1756 or (202) 482-3003, respectively; Office of AD/CVD Enforcement 5, Import Administration, International Trade Administration, U.S. Department of Commerce, 14th Street and Constitution Avenue, NW, Washington, DC 20230.

Time Limits:

Statutory Time Limits

Section 751(a)(3)(A) of the Tariff Act of 1930, as amended (the Act), requires the Department of Commerce (the Department) to complete the final results of an administrative review within 120 days after the date on which the preliminary results are published. However, if it is not practicable to complete the review within this time period, section 751(a)(3)(A) of the Act allows the Department to extend the time limit for the final results to 180 days (or 300 days if the Department does not extend the time limit for the preliminary results) from the date of publication of the preliminary results.

Background

Eurodif S.A. (Eurodif), a French producer of subject merchandise, and its affiliated parties Compagnie Générale Des Matiéres Nucléaires (COGEMA) and COGEMA, Inc. (collectively, COGEMA/Eurodif), requested an administrative review of the antidumping order on low enriched uranium from France on February 3, 2003. United States Enrichment Corporation and USEC, Inc. (the petitioner), a domestic producer of subject merchandise, requested a review on February 28, 2003. On March 25, 2003, the Department published a notice of initiation of the administrative review, covering the period July 13, 2001, through January 31, 2003 (Initiation of Antidumping and Countervailing Duty Administrative Reviews and Requests for Revocation in Part, 68 FR 14394). On October 27, 2003, and December 16, 2003, the Department published notices extending the time limit for the preliminary results (Extension of the Time Limit for the Preliminary Results of Antidumping Duty Administrative Review, 68 FR 61184 and 68 FR 69994, respectively). On January 27, 2004, the Department published the preliminary results of its review, (Notice of Preliminary Results of Antidumping Duty Administrative Review: Low Enriched Uranium from France, 69 FR 3883) The final results of this review are currently due no later than May 26, 2004.

Extension of Time Limit for the Final Results of Review

This review involves complex and novel issues, such as the proper treatment of commingled merchandise, the application of the major input rule, and the appropriateness of deducting from constructed export price (CEP) an amount for countervailing duty cash deposits. In addition, the Department needs additional time to consider the arguments raised by the parties after the preliminary results of review. For these reasons, the Department has determined that it is not practicable to complete the final results within the original time limit. Therefore, the Department is extending the time limit for completion of the final results until no later than July 26, 2004.

This extension is in accordance with section 751(a)(3)(A) of the Act.

Dated: March 25, 2004.
Holly A. Kuga,
Acting Deputy Assistant Secretary for AD/CVD Enforcement II.

[FR Doc. 04-7221 Filed 3-30-04; 8:45 am]

BILLING CODE 3510-DS-S